Proclamation 9649 of September 29, 2017

National Domestic Violence Awareness Month, 2017

By the President of the United States of America

A Proclamation

Domestic violence is never acceptable. During National Domestic Violence Awareness Month, I call on all Americans to promote the safety and liberty of the women, men, and children who are subjected to violent, intimidating, or controlling behavior at the hands of those closest to them.

All humans have inherent dignity, and no one deserves to be in an abusive relationship. While the rate of domestic violence in our country has decreased over the last two decades, domestic violence continues to spread across our Nation. Nearly 1 in 4 American women aged 18 and older have been the victim of physical violence by an intimate partner, and domestic violence is still the leading cause of injury to women. Emotional abuse is also sadly too prevalent in our communities, and can inflict deep scars on those caught in an up-and-down cycle of belittling, aggressive behavior even in what can feel like a healthy relationship.

We share a moral obligation to recognize, address, and stop domestic violence. Each of us must be a voice for those suffering in silence and must speak up when we see signs of physical or emotional abuse. Together we can bolster victims' support networks and encourage and empower them to report offenses.

We recognize and applaud the many advocates, clergy, victim-service providers, educators, law enforcement officers, family members, and friends who render daily aid to victims of harmful and destructive relationships, often as first responders. Tens of thousands of women and children find refuge in domestic violence emergency shelters and transition housing each day, but thousands more are turned away. That is why the Department of Health and Human Services and the Department of Housing and Urban Development are engaged in the critical work of funding domestic violence shelters and hotlines. And each year, the Department of Justice Office on Violence Against Women awards hundreds of millions of Federal grant dollars to support law enforcement efforts to assist victims and hold offenders accountable.

During National Domestic Violence Awareness Month, I encourage Americans affected by domestic violence to seek help. Your neighbors, places of worship, community, and Nation stand ready to support you. I remain deeply committed to ensuring that our Nation is one where all may live free of fear, violence, and abuse, especially in their own homes.

NOW, THEREFORE, I, DONALD J. TRUMP, President of the United States of America, by virtue of the authority vested in me by the Constitution and the laws of the United States, do hereby proclaim October 2017 as National Domestic Violence Awareness Month. I call on all Americans to stand firm in condemning domestic violence and supporting victims of these crimes in finding the safety and recovery they need and to support, recognize, and trust in the efforts of law enforcement to hold offenders accountable, protect victims of crime and their communities, and prevent future violence.

IN WITNESS WHEREOF, I have hereunto set my hand this twenty-ninth day of September, in the year of our Lord two thousand seventeen, and of the Independence of the United States of America the two hundred and forty-second.

[FR Doc. 2017-21552

Filed 10-3-17; 11:15 am]

Billing code 3295-F7-P